DEPARTMENT OF THE INTERIOR

National Park Service

National Register of Historic Places; Weekly Listing of Historic Properties

Pursuant to (36 CFR 60.13(b,c)) and (36 CFR 63.5), this notice, through publication of the information included herein, is to appraise the public as well as governmental agencies, associations and all other organizations and individuals interested in historic preservation, of the properties added to, or determined eligible for listing in, the National Register of Historic Places from December 1 to December 5, 2008.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: January 6, 2009.
J. Paul Loether,
Chief, National Register of Historic Places/National Historic Landmarks Program.

KEY: State, County, Property Name, Address/Boundary, City, Vicinity, Reference Number, NHL, Action, Date, Multiple Name

GEORGIA

Bulloch County

Upper Lott's Creek Primitive Baptist Church and Cemetery, Metter-Portal Hwy. and Westside Rd., Metter vicinity, 08000967, LISTED, 12/04/08

Harris County

Copeland, William and Ann, Jr., House, 19444 GA 116, Shiloh vicinity, 08000969, LISTED, 12/04/08

ILLINOIS

Cook County

Lindemann and Hoverson Company Showroom and Warehouse, 2620 W. Washington Blvd., Chicago, 8001095, LISTED, 11/26/08

KENTUCKY

Fayette County

New Zion Historic District, 4972 Newtown Pike through 5200 Newtown Pike, and 103-135 New Zion Rd., Georgetown vicinity, 08001118, LISTED, 12/04/08

Green County

Creel, Elijah, House, E. Columbia Ave., Greensburg, 85003589, LISTED, 12/03/08 (Green County MRA)

Greenup County

Wurtland Union Church, 325 Wurtland Ave., Wurtland, 08001119, LISTED, 12/04/08

Jefferson County

Johnston, J. Stoddard, Elementary School, 2301 Bradley Blvd., Louisville, 82005031, LISTED, 12/03/08

MARYLAND

Baltimore Independent City

Park Circle Historic District, Roughly bounded by Overview Ave., Shirley Ave., Cottage Ave., and Henry G. Parks Jr. Circle, Baltimore, 08001124, LISTED, 12/04/08

Cecil County

Gilpin's Falls Covered Bridge, MD Rt. 272, North East vicinity, 08001125, LISTED, 12/03/08

MASSACHUSETTS

Dukes County

Tashmoo Springs Pumping Station, 325 W. Spring St., Tisbury, 08001126, LISTED, 12/03/08

Franklin County

Leverett Center Historic District, Amherst, Montague, Depot, and Shutesbury Rds., Leverett, 08001127, LISTED, 12/05/08

Norfolk County

Wollaston Congregational Church, 47-57 Lincoln Ave., Quincy, 08001128, LISTED, 12/05/08 (Quincy MRA)

MISSOURI

Pettis County

Jones, Henry, Farmstead, 17000 Hwy. EE, Sedalia vicinity, 08001129, LISTED, 12/03/08

St. Louis Independent City

More Automobile Company Building, 2801 Locust St., St. Louis, 08001130, LISTED, 12/03/08 (Auto-Related Resources of St. Louis, Missouri MPS)

St. Louis Independent City

Peabody Coal Company National Headquarters, 301 N. Memorial Dr., St. Louis, 08001131, LISTED, 12/03/08

NEBRASKA

Butler County

St. Mary of the Assumption Catholic Church, School and Grottoes, 336 W. Pine St., Dwight, 08001132, LISTED, 12/04/08

Hamilton County

United Brethren Church, 1103 K St., Aurora, 08001133, LISTED, 12/03/08

Madison County

First United Presbyterian Church, 104 E. 4th St., Madison, 08001134, LISTED, 12/03/08

NEW MEXICO

Roosevelt County Courthouse

Roosevelt County Courthouse, 100 W. 2nd St., Portales, 08001136, LISTED, 12/03/08 (New Deal in New Mexico MPS)

NEW YORK

Rockland County

Piermont Railroad Station, 50 Ash St., Piermont, 08001146, LISTED, 12/03/08

OKLAHOMA

Grady County

Silver City Cemetery, 6/10th of a mile from Section line on S. side of section 22, T10N, R6W I.M., Tuttle vicinity, 08001149, LISTED, 12/04/08

Oklahoma County

Kivlehen House, 525 N. Jackson St., Edmond, 08001150, LISTED, 12/04/08

Osage County

Woolaroc Ranch Historic District, Eight mi. E. of the jct. of St. Hwys. 11 and 123, Barnsdall vicinity, 08001151, LISTED, 12/05/08

Tulsa County

Mayo Building, 420 S. Main St., Tulsa, 08001152, LISTED, 12/04/08

Woodward County

Woodward Theater, The, 818 Main, Woodward, 08001153, LISTED, 12/04/08

OREGON

Multnomah County

Bohnsen Cottages, 1918-1926 SW. Elm St. and 2412-2416 SW. Vista Ave., Portland, 08001182, LISTED, 12/04/08

UTAH

Salt Lake County

Best, Amanda Conk, House, 3622 S. 1100 E., Millcreek, 08001154, LISTED, 12/04/08

Salt Lake County

Oquirrh School, 350 S. 400 E., Salt Lake City, 08001156, LISTED, 12/04/08

Uintah County

Bank of Vernal, 3 W. Main St., Vernal, 08001155, LISTED, 12/04/08 (Vernal—Maeser, Utah MPS)

WASHINGTON

King County

Preston Community Clubhouse, 8625 310th Ave. SE., Preston, 08001186, LISTED, 12/04/08

WISCONSIN

Oconto County

Citizens State Bank of Gillett, 137 E. Main St., Gillett, 08001159, LISTED, 12/04/08

[FR Doc. E9-1667 Filed 1-26-09; 8:45 am]

BILLING CODE 4310-70-P